NUCLEAR REGULATORY COMMISSION

[Docket Nos. 50-321, 50-366; NRC-2008-0585]

Southern Nuclear Operating Company, Inc.; Edwin I. Hatch Nuclear Plant, Units 1 and 2

AGENCY: Nuclear Regulatory Commission.

ACTION: Environmental assessment and finding of no significant impact; issuance.

SUMMARY: The U.S. Nuclear Regulatory Commission (NRC) is considering issuance of an exemption from its regulations for Renewed Facility Operating License Nos. NPF-5 and DPR-57, issued to Southern Nuclear Operating Company (SNC), for operation of the Edwin I. Hatch Nuclear Plant, Units 1 and 2 (HNP), located in Appling County, Georgia. Based on the results of the environmental assessment, the NRC is issuing a finding of no significant impact.

ADDRESSES: Please refer to Docket ID NRC-2008-0585 when contacting the NRC about the availability of information regarding this document. You may access publicly-available information related to this action by the following methods:

• Federal rulemaking Web site: Go to http://www.regulations.gov and search for Docket ID NRC-2008-0585. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Proposed Exemption to 10 CFR 50.46 and 10 CFR Part 50, Appendix K to Allow GNF-Ziron Fuel Cladding, dated April 23, 2013, is available in ADAMS under Accession No. ML13115A480.

• NRC's PDR: You may examine and purchase copies of public documents at the NRC's PDR, Room O1-F21, One White Flint North, 11555 Rockville Pike, Rockville, Maryland 20852.

FOR FURTHER INFORMATION CONTACT: Robert E. Martin, Office of Nuclear Reactor Regulation, U.S. Nuclear Regulatory Commission, Washington, DC 20555-0001, telephone: 301-415-1493; email: Robert.Martin@nrc.gov.

SUPPLEMENTARY INFORMATION:

I. Introduction

The NRC is considering issuance of an exemption from 10 CFR 50.46 of Title 10 of the Code of Federal Regulations (10 CFR) for Renewed Facility Operating License Nos. NPF-5 and DPR-57, issued to Southern Nuclear Operating Company (SNC), for operation of the Edwin I. Hatch Nuclear Plant, Units 1 and 2 (HNP), located in Appling County, Georgia. Therefore, as required by 10 CFR 51.21, the NRC performed an environmental assessment. Based on the results of the environmental assessment, the NRC is issuing a finding of no significant impact.

II. Environmental Assessment

Identification of the Proposed Action

The proposed action would allow the use of Ziron fuel cladding in two GE14 lead test fuel assemblies (LTAs) in either HNP, Unit 1 or Unit 2, for one or more additional fuel cycles, up to the standard GE14 peak pellet exposure limit. The proposed action is described in the licensee's application dated April 23, 2013. The proposed action is similar to an action previously approved by the NRC staff (staff) wherein, on November 7, 2008 (ADAMS Accession No. ML082950149), the NRC staff issued an exemption enabling the use of two GE14 LTAs in Unit 2 of the HNP for fuel cycles 21, 22 and 23. The Environmental Assessment and Finding of No Significant Impact for that action was published in the Federal Register on November 3, 2008 (73 FR 65415). Subsequently, SNC decided not to use those LTAs in Hatch Unit 2 cycle 23. SNC now wishes to continue with irradiation of the two LTAs up to the standard GE14 peak pellet exposure limit, and since the exemption of November 7, 2008, specifically addressed only HNP Unit 2 in fuel cycles 21, 22 and 23, SNC must apply for a further exemption to enable further irradiation of the two LTAs in either of the HNP reactors for one or more additional cycles, up to GNF's approved peak pellet exposure.

The Need for the Proposed Action

The proposed action would allow the use of two LTAs that will include some fuel rods manufactured with a cladding material, called GNF-Ziron, which is similar in composition to Zircaloy-2, but contains a slightly higher iron content than specified in ASTM B350. Irradiation of LTAs with GNF-Ziron fuel rods will enable SNC to acquire in-reactor operating experience with this material. Pursuant to 10 CFR 50.12, “Specific exemptions,” the licensee has requested an exemption from 10 CFR 50.46, “Acceptance criteria for emergency core cooling systems for light-water nuclear power reactors,” that requires, among other items, that “[e]ach boiling or pressurized light-water nuclear power reactor fueled with uranium oxide pellets within cylindrical zircaloy or ZIRLO cladding must be provided with an emergency core cooling system (ECCS) that must be designed so that its calculated cooling performance following postulated loss-of-coolant accidents conforms to the criteria set forth in paragraph (b) of this section.” Appendix K to 10 CFR Part 50, “ECCS Evaluation Models,” requires, among other items, that the rate of energy release, hydrogen generation, and cladding oxidation from the metal/water reaction shall be calculated using the Baker-Just equation. The regulations at 10 CFR 50.46 and 10 CFR Part 50, Appendix K, make no provisions for use of fuel rods clad in a material other than zircaloy or ZIRLO. The proposed action would allow the licensee to irradiate a small number of LTAs using fuel rods clad with Ziron alloy either in HNP Unit 1 or Unit 2 up to the standard GE14 peak pellet exposure. Since the material specifications of the Ziron alloy differ from the specification for zircaloy or ZIRLO, a plant-specific exemption is required to support the use of the LTAs.

Environmental Impacts of the Proposed Action

The NRC has completed its safety evaluation of the proposed action and concludes that the application of 10 CFR 50.46 and Appendix K to 10 CFR Part 50, is not necessary to achieve the underlying purpose of the rule.

The details of the NRC staff safety evaluation will be provided in the exemption issued as part of the letter to the licensee approving the exemption to the regulations.

The staff has concluded that such a change would not adversely affect plant safety, and would have no adverse effect on the probability of any accident. For accidents that involve damage or melting of the fuel in the reactor core, the fuel rod integrity of GNF-Ziron cladded fuel has been shown to be similar to zircaloy cladded fuel; therefore, the consequences of an accident will not be affected. For accidents in which the core remains intact, the use of GNF-Ziron cladding will not have a significant effect on the mix of fission products that could be released in the event of a serious accident; thus, the previously analyzed accident dose consequences remain bounding. Regulatory limits on radiological effluent releases are independent of the type of fuel cladding used. The requirements of 10 CFR 50.36a, Appendix I to 10 CFR Part 50, and 40 CFR Part 190, as well as the plant's Technical Specifications ensure that the release of radioactive gaseous, liquid, and solid waste to unrestricted areas are kept to “as low as is reasonably achievable” (ALARA) levels. The licensee's radioactive waste processing system will collect, control, process to reduce the amount of radioactivity, and discharge the waste in accordance with regulatory limits. Therefore, the NRC staff concluded that during routine operations, there will be no significant increase of radiological effluents released into the environment as a result of the proposed exemption request. No significant increase in the allowable individual occupational radiation exposure will occur. The impact to workers is not expected to change because radiation exposure will be controlled in accordance with the licensee's radiation protection program, the ALARA program, in-plant shielding, the use of temporary shielding, and engineering controls. The use of GNF-Ziron fuel rods will not change the potential environmental impacts of incident-free transportation of spent nuclear fuel provided the shipping casks are maintained and transported within the Department of Transportation and NRC's regulations. Therefore, there are no significant radiological environmental impacts associated with the proposed action.

With regard to potential non-radiological impacts, the proposed action would not change the types or amounts of non-radiological plant effluents. Therefore the proposed action would not result in any foreseeable impacts to land, air, or water resources, including impacts to biota because there would be no change in effluents or emissions into the environment. In addition, there are no known socioeconomic or environmental justice impacts associated with such proposed action because there would be no increase or change in effluents or emissions into the environment that would disproportionately or adversely affect the minority or low income populations. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in NUREG-1437, Supplement 4, “Generic Environmental Impact Statement for License Renewal of Nuclear Plants, regarding the Edwin I. Hatch Nuclear Plant, Units 1 and 2, dated May 31, 2001.

Agencies and Persons Consulted

On August 13, 2013, the NRC staff notified the State official of Georgia, Mr. Chuck Mueller, of the Department of Natural Resources, regarding the environmental impact of the proposed action. The State official had no comments.

III. Finding of No Significant Impact

On the basis of the environmental assessment, the NRC concludes that the proposed action will not have a significant effect on the quality of the human environment. Accordingly, the NRC has determined not to prepare an environmental impact statement for the proposed action.

For further details with respect to the proposed action, see the licensee's letter dated April 23, 2013.

Dated at Rockville, Maryland, this 23rd day of January, 2014.
For the Nuclear Regulatory Commission.
Robert Pascarelli,
Chief, Plant Licensing Branch II-1, Division of Operating Reactor Licensing, Office of Nuclear Reactor Regulation.

[FR Doc. 2014-01880 Filed 1-29-14; 8:45 am]

BILLING CODE 7590-01-P